DEPARTMENT OF ENERGY

Federal Energy Regulatory Commission

[Docket No. RP01-610-000]

Sumas International Pipeline Inc.; Notice of Tariff Filing and Annual Charge Adjustment

October 4, 2001.

Take notice that on September 19, 2001, Sumas International Pipeline Inc., (Sumas) tendered for filing as part of its FERC Gas Tariff, Original Volume No. 2, Ninth Revised Sheet No. 4, to be effective October 1, 2001.

Sumas states that the purpose of the filing is to authorize collection of the Annual Charge Adjustment (ACA) unit rate surcharge by the Commission for fiscal year 2002. Sumas states that the ACA unit surcharge authorized for fiscal year 2002 is $.0021 per Dth.

Sumas states that copies of the filing has been served upon all of Sumas customers.

Any person desiring to be heard or to protest said filing should file a motion to intervene or a protest with the Federal Energy Regulatory Commission, 888 First Street, NE., Washington, DC 20426, in accordance with sections 385.214 or 385.211 of the Commission's Rules and Regulations. All such motions or protests must be filed on or before October 11, 2001. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25518 Filed 10-10-01; 8:45 am]

BILLING CODE 6717-01-P